AGENCY FOR INTERNATIONAL DEVELOPMENT

48 CFR Parts 701, 702, 703, 704, 705, 706, 707, 709, 711, 713, 714, 715, 716, 717, 719, 722, 725, 726, 727, 728, 731, 732, 733, 736, 742, 745, 747, 750, and 752

RIN 0412-AA76

Incorporate Various Administrative Changes and Internal Policies Into the USAID Acquisition Regulation (AIDAR)

AGENCY: U.S. Agency for International Development.

ACTION: Proposed rule.

SUMMARY: This proposed rule is a companion document to the U.S. Agency for International Development (USAID) direct final rule (published in the “Rules and Regulations” section of this Federal Register), amending the Agency for International Development Acquisition Regulation (AIDAR). AIDAR is revised to maintain consistency with the Federal Acquisition Regulation (FAR) and conform the regulation to previously implemented policy. Obsolete material is removed and numerous clarifications and editorial amendments are made to better specify the regulation.

DATES: Submit comments on or before January 15, 2015.

ADDRESSES: Address all comments concerning this document to Marcelle Wijesinghe, Bureau for Management, Office of Acquisition and Assistance, Policy Division (M/OAA/P), Room 867, SA-44, Washington, DC 20523-2052. Submit comments, identified by title of the action and Regulatory Information Number (RIN) by any of the following methods:

Federal eRulemaking Portal: http://www.regulations.gov. Follow the instructions for submitting comments.

Email: Submit electronic comments to both mwijesinghe@usaid.gov and lbond@usaid.gov. See SUPPLEMENTARY INFORMATION for file formats and other information about electronic filing.

Mail: USAID, Bureau for Management, Office of Acquisition & Assistance, Policy Division, Room 867, SA-44, Washington, DC 20523-2052.

FOR FURTHER INFORMATION CONTACT: Lyudmila Bond, Telephone: 202-567-4753 or Email: lbond@usaid.gov.

SUPPLEMENTARY INFORMATION: USAID is publishing the amendment as a direct final rule because the Agency views it as a conforming and administrative amendment and does not anticipate any adverse comments. A detailed discussion of the rule is set forth in the preamble of the direct final rule.

If no adverse comments are received in response to the direct final rule, no further action will be taken related to this proposed rule.

If adverse comments are received on the direct final rule, USAID will publish a timely partial withdrawal in the Federal Register informing the public what sections of the direct final rule will not take effect. Any portions of the final rule for which no adverse or critical comments are received will become final after the designated period.

All public comments received on the direct final rule will be addressed in a subsequent final rule based on this proposed rule. USAID will not institute a second comment period. Any parties interested in commenting on this action should do so at this time.

A. Instructions

All comments must be in writing and submitted through one of the methods specified in the Addresses section above. All submissions must include the title of the action and RIN for this rulemaking. Please include your name, title, organization, postal address, telephone number, and email address in the text of the message.

Comments submitted by email must be included in the text of the email or attached as a PDF file. Please avoid using special characters and any form of encryption. Please note, however, that because security screening precautions have slowed the delivery and dependability of surface mail to USAID/Washington, USAID recommends sending all comments to the Federal eRulemaking Portal.

All comments will be made available for public review without change, including any personal information provided, from three workdays after receipt to finalization of action at http://www.regulations.gov. Do not submit information that you consider to be Confidential Business Information (CBI), Personally Identifiable Information or any information that is otherwise protected from disclosure by statute.

As noted above, in the “Rules and Regulations” section of this Federal Register, USAID is publishing a direct final rule with the same title that announces revisions to the Agency for International Development Acquisition Regulation (AIDAR). For detailed information on these revisions, please see the direct final rule.

Dated: October 7, 2014.
Aman S. Djahanbani,
Chief Acquisition Officer.

[FR Doc. 2014-26050 Filed 12-15-14; 8:45 am]

BILLING CODE 6116-01-P